ENVIRONMENTAL PROTECTION AGENCY

[EPA-HQ-OECA-2020-0203; FRL-10019-79-OMS]

Information Collection Request Submitted to OMB for Review and Approval; Comment Request; NSPS for Municipal Solid Waste Landfills (Renewal)

AGENCY: Environmental Protection Agency (EPA).

ACTION: Notice.

SUMMARY: The Environmental Protection Agency (EPA) has submitted an information collection request (ICR), NSPS for Municipal Solid Waste Landfills (EPA ICR Number 2498.04, OMB Control Number 2060-0697), to the Office of Management and Budget (OMB) for review and approval in accordance with the Paperwork Reduction Act. This is a proposed extension of the ICR, which is currently approved through January 31, 2021. Public comments were previously requested, via the Federal Register, on May 12, 2020 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before March 1, 2021.

ADDRESSES: Submit your comments, referencing Docket ID Number EPA-HQ-OECA-2020-0203 online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The owners and operators of municipal solid waste landfills are required to comply with reporting and record keeping requirements for the General Provisions (40 CFR part 60, subpart A), as well as for the requirements of 40 CFR part 60 subpart XXX. This includes submitting initial notifications, performance tests and periodic reports and results, and maintaining records of the occurrence and duration of any startup, shutdown, or malfunction in the operation of an affected facility, or for any period during which the monitoring system is inoperative. These reports are used by EPA to determine compliance with these standards.

Form Numbers: None.

Respondents/affected entities: Municipal solid waste landfills.

Respondent's obligation to respond: Mandatory (40 CFR part 60 subpart XXX).

Estimated number of respondents: 190 (total).

Frequency of response: Initially, annually.

Total estimated burden: 176,000 hours (per year). Burden is defined at 5 CFR 1320.3(b).

Total estimated cost: $12,500,000 (per year), which includes $858,000 in annualized capital/startup and/or operation & maintenance costs.

Changes in the estimates: There is an adjustment increase in the total estimated burden as currently identified in the OMB Inventory of Approved Burdens. This increase in burden is due to changes in several areas. Due to the gap years between the previous ICR and this ICR, the number of respondents has been adjusted to reflect the expected number of landfills controlling between years 2022 through 2024 based on projected emissions, and assuming that in these years landfills will be controlling under the more stringent 34 Mg/yr requirements. This ICR also reflects the average annual respondents and burden for the rule activities following implementation. These adjustments have resulted in an increase in the total number of respondents due to sources modifying and becoming subject to the regulations. This ICR also reflects the implementation of the rule and adjustments to the number of sources conducting one-time activities versus recurring activities. The previous ICR included many new sources with associated testing and capital/startup costs. These costs have decreased in this ICR due to these sources having complied with their initial compliance requirements during the period of the previous ICR. In this ICR renewal, the increase in the number of existing sources has led to an increase in O&M costs. More existing sources are performing routine surface emission and wellhead monitoring, which is labor intensive. We have also adjusted the burden for sources to familiarize themselves with the rule, as most sources have been complying with rule requirements for the last few years. Although the rule has been amended since the previous ICR, these rule changes did not result in an increase in burden.

Courtney Kerwin,
Director, Regulatory Support Division.

[FR Doc. 2021-01971 Filed 1-28-21; 8:45 am]

BILLING CODE 6560-50-P